NATIONAL TRANSPORTATION SAFETY BOARD

Investigative Hearing

A recent Norfolk Southern Railway accident in East Palestine, Ohio, has motivated this investigative hearing.

On February 3, 2023, about 8:54 p.m. local time, eastbound Norfolk Southern Railway general merchandise freight train 32N derailed 38 railcars on main track 1 of the Norfolk Southern Fort Wayne Line of the Keystone Division in East Palestine, Ohio. The derailed equipment included 11 tank cars carrying hazardous materials that subsequently ignited, fueling fires that damaged an additional 12 non-derailed railcars. First responders implemented a 1-mile evacuation zone surrounding the derailment site that affected up to 2,000 residents. There were no reported fatalities or injuries.

The investigative hearing will discuss the following issue areas:

• Hazard Communications and Emergency Responder Preparedness for the Initial Emergency Response

• Circumstances that Led to the Decision to Vent and Burn Five Vinyl Chloride Tank Cars

• Freight Car Bearing Failure Modes and Wayside Detection Systems

• Tank Car Derailment Damage, Crashworthiness, and Hazardous Materials Package Information

Parties to the hearing are the Federal Railroad Administration; Pipeline and Hazardous Materials Safety Administration; Norfolk Southern Corporation; Trinity Rail Management Leasing Services; Oxy Vinyls, LP; Brotherhood of Locomotive Engineers and Trainmen; International Association of Sheet Metal, Air, Rail and Transportation Workers; Transportation Communications Union/IAM; Brotherhood of Railroad Signalmen; International Association of Fire Fighters; Ohio State Highway Patrol; and the Village of East Palestine.

Order of Proceedings

1. Opening Statement by the Chair of the Board of Inquiry

2. Introduction of the Board of Inquiry and Technical Panel

3. Introduction of the Parties to the Hearing

4. Introduction of Exhibits by Hearing Officer

5. Overview of the incident and the investigation by Investigator-In-Charge

6. Calling of Witnesses by Hearing Officer and Examination of Witnesses by Technical Panel, Parties, and Board of Inquiry

7. Closing Statement by the Chair of the Board of Inquiry

The investigative hearing will be held at East Palestine High School, 360 West Grant Street, East Palestine, Ohio on Thursday, June 22, 2023, 9:00 a.m. to 7:00 p.m. eastern daylight time (EDT), and Friday, June 23, 2023, 9:00 a.m. to 6:00 p.m. EDT.

Media planning to cover the investigative hearing are asked to contact Keith Holloway at (202) 314-6100 or mediarelations@ntsb.gov.

The investigative hearing will be transmitted live via the NTSB's YouTube channel at https://www.youtube.com/user/NTSBgov. An archival video of the hearing will be available via the website for 30 days after the hearing.

Individuals requiring reasonable accommodation and/or wheelchair access directions should contact Stephanie Shaw at (202) 314-6014 or by email at EastPalestineHearing@ntsb.gov.

NTSB Investigative Hearing Officer: Stephanie D. Shaw—EastPalestineHearing@ntsb.gov.

The National Transportation Safety Board is holding this public hearing pursuant to the provisions of the Government in the Sunshine Act (5 U.S.C. 552b) and as authorized by 49 CFR 845.2.

Candi R. Bing,
Federal Register Liaison Officer.

[FR Doc. 2023-11486 Filed 5-30-23; 8:45 am]

BILLING CODE 7533-01-P